DEPARTMENT OF HOMELAND SECURITY

Coast Guard

33 CFR Part 165

[COTP LA-LB 07-004]

RIN 1625-AA00

Safety Zone; Queensway Bay, Long Beach, CA

AGENCY: Coast Guard, DHS.

ACTION: Temporary final rule.

SUMMARY: The Coast Guard is establishing a temporary safety zone in the Long Beach Harbor to encompass the waters between Queensway Bay to Island White at Long Beach harbor for the Annual Los Angeles and Long Beach Tug Boat Race. This safety zone is needed to prevent vessels from transiting the area during the race in order to protect vessels and personnel from potential damage and injury. Entry into this safety zone will be prohibited unless specifically authorized by the Captain of the Port, Los Angeles-Long Beach, or his on-scene representative.

DATES: This rule is effective from 5 p.m. to 7 p.m. on September 27, 2007.

ADDRESSES: Documents indicated in this preamble as being available in the docket are part of docket COTP LA-LB 07-004 and are available for inspection or copying at Sector Los Angeles—Long Beach, 1001 S. Seaside Ave, San Pedro, CA 90731 between 8 a.m. and 4 p.m., Monday through Friday, except Federal holidays.

FOR FURTHER INFORMATION CONTACT: Lieutenant Commander Peter Gooding, Chief of the Waterways Management Division at (310) 732-2020.

SUPPLEMENTARY INFORMATION:

Regulatory Information

We did not publish a notice of proposed rulemaking (NPRM) for this regulation. Under 5 U.S.C. 553(b)(B), the Coast Guard finds that good cause exists for not publishing an NPRM. Publishing a NPRM, which would incorporate a comment period before a final rule could be issued, and delaying the rule's effective date is contrary to public safety because immediate action is necessary to protect the public and waters of the United States.

Under 5 U.S.C. 553(d)(3), good cause exists for making this rule effective fewer than 30 days after publication in the Federal Register. Delaying this rule would be contrary to the public interest of ensuring the safety of spectators and vessels during this event and immediate action is necessary to prevent possible loss of life or property. This temporary safety zone should have minimal negative impact on the public and navigation because it will be enforced for only a two hour period on one day. In addition, the area restricted by the safety zone is minimal, allowing vessels to transit around the safety zone to pass.

Background and Purpose

On September 27, 2007, the Annual Port of Los Angeles and Long Beach Tug Boat Races will be held in the vicinity of Queensway Bay, Echo anchorages, and to extend around Island White. The Captain of the Port is establishing a safety zone to prevent vessels from transiting the area and to protect vessels and personnel from potential damage and injury resulting from the race.

Discussion of Rule

This safety zone includes the waters of the Long Beach Harbor within the boundaries defined by a line drawn from a point located at 33°45′11″ N, 118°11′14″ W; then south to a point located at 33°44′40″ N, 118°11′00″ W; then northeast to a point located at 33°45′03″ N, 118°09′19″ W; then north to a point located at 33°45′19″ N, 118°09′28″ W; then west back toward the starting point to 33°45′11″ N, 118°11′14″ W [NAD 1983].

Vessels are excluded from the area encompassed by this safety zone from 5 p.m. to 7 p.m. on September 27, 2007. Persons and vessels are prohibited from entering into or transiting through this safety zone unless authorized by the Captain of the Port, or his on-scene representative. By prohibiting all vessel traffic from entering the waters surrounding this event, the safety of the race personnel and the public will be enhanced. U.S. Coast Guard personnel will enforce this safety zone.

The Captain of the Port may, in his discretion grant waivers or exemptions to this rule, either on a case-by-case basis or categorically to a particular class of vessel that otherwise is subject to adequate control measures.

The Coast Guard will issue a Broadcast Notice to Mariners to further ensure the local boating traffic is aware of the safety zone and its geographical boundaries. Vessels or persons violating this section will be subject to both criminal and civil penalties.

Regulatory Evaluation

This rule is not a “significant regulatory action” under section 3(f) of Executive Order 12866, Regulatory Planning and Review, and does not require an assessment of potential costs and benefits under section 6(a)(3) of that Order. The Office of Management and Budget has not reviewed it under that Order.

Although the safety zone will restrict boating traffic within the navigable waters of the Long Beach Harbor between Queensway Bay and Island White, the effect of this regulation will not be significant as the safety zone will encompass only a small portion of the waterway and will be short in duration. The entities most likely to be affected are pleasure craft engaged in recreational activities and sightseeing. As such, the Coast Guard expects the economic impact of this rule to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of entities. This rule will affect the following entities, some of which may be small entities: The owners or operators of vessels intending to transit or anchor in the affected portion of the Long Beach Harbor from 5 p.m. to 7 p.m. on September 27, 2007. Although the safety zone will restrict boating traffic within the navigable waters of Long Beach Harbor in the vicinity of Queensway Bay east around Island White, the effect of this regulation will not be significant as the safety zone will encompass only a small portion of the waterway and will be short in duration. The entities most likely to be affected are small commercial and pleasure craft engaged in recreational activities and sightseeing. As such, the Coast Guard expects the economic impact of this rule to be minimal. This safety zone will not have a significant economic impact on a substantial number of small entities for the following reasons: The safety zone only encompasses a small portion of the waterway, it is short in duration, vessel traffic can pass safely around the safety zone, and the Captain of the Port may authorize entry into the safety zone, if necessary. Before the enforcement period, we will issue maritime advisories widely available to users of this area. If the event concludes prior to the scheduled termination time, the Captain of the Port will cease enforcement of this safety zone and will announce that fact via Broadcast Notice to Mariners.

Assistance for Small Entities

Under section 213(a) of the Small Business Regulatory Enforcement Fairness Act of 1996 (Pub. L. 104-121), we offered to assist small entities in understanding the rule so that they could better evaluate its effects on them and participate in the rulemaking process. If the rule would affect your small business, organization, or governmental jurisdiction and you have questions concerning its provisions or options for compliance, please contact Lieutenant Commander Peter Gooding, at Coast Sector Los Angeles—Long Beach, Waterways Management Division, at telephone (310) 732-2020.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because it establishes a safety zone.

A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226 and 1231; 46 U.S.C. Chapter 701; 50 U.S.C. 191, 195; 33 CFR 1.05-1, 6.04-1, 6.04-6, and 160.5; Pub. L. 107-295, 116 Stat. 2064; Department of Homeland Security Delegation No. 0170.1.

2. Add § 165.T11-241 to read as follows:

§ 165.T11-241 Safety Zone; Queensway Bay Long Beach, California

(a) Location. The following area comprises the geographical boundary of a safety zone: All navigable waters of the Pacific Ocean within the boundaries defined by a line drawn from a point located at 33°45′11″ N, 118°11′14″ W; then south to a point located at 33°44′40″ N, 118°11′00″ W; then northeast to a point located at 33°45′03″ N, 118°09′19″ W; then north to a point located at 33°45′19″ N, 118°09′28″ W; then west heading back toward the starting point finishing at 33°45′11″ N, 118°11′14″ W [NAD 1983].

(b) Regulations. (1) In accordance with the general regulations in § 165.23 of this part, entry into, transit through, or anchoring within this safety zone by all vessels is prohibited, unless authorized by the Captain of the Port (COTP), or his on-scene representative.

(2) On-scene representative means any commissioned, warrant, and petty officer of the Coast Guard onboard a Coast Guard, Coast Guard Auxiliary, local, state, or federal law enforcement vessel authorized to act on behalf of the COTP.

(3) Mariners may request permission of the COTP, or his on-scene representative to transit through the safety zone. The COTP or his on-scene representative may be contacted via VHF-FM Channel 16.

(c) Enforcement. (1) All persons and vessels shall comply with the instructions of the COTP or his on-scene representative.

(2) Upon being hailed by the COTP or his on-scene representative by siren, radio, flashing light, or other means, the operator of a vessel shall proceed as directed.

(3) The Coast Guard may be assisted in the patrol and enforcement of this safety zone by other federal, state, or local law enforcement as necessary.

(d) Enforcement period. This section will be enforced from 5 p.m. to 7 p.m. on September 27, 2007.

Dated: September 12, 2007.
P.E. Wiedenhoeft,
Captain, U.S. Coast Guard, Captain of the Port, Los Angeles—Long Beach.

[FR Doc. E7-19675 Filed 10-4-07; 8:45 am]

BILLING CODE 4910-15-P